NATIONAL SCIENCE FOUNDATION

Advisory Committee for International Science and Engineering; Notice of Meeting

In accordance with the Federal Advisory Committee Act (Pub. L. 92-463, as amended), the National Science Foundation announces the following meeting:

Name: NSF Advisory Committee for International Science and Engineering (25104).

Date and Time: October 25, 2012 8:30 a.m.-5 p.m. October 26, 2012 8:30 a.m.-12 p.m.

Place: The public is welcome to attend at Arlington Hilton Hotel, Gallery Ballroom I, 950 Stafford Street, Arlington, VA (next door to the National Science Foundation building).

Type of Meeting: Open.

Contact Person: Robert Webber, NSF Office of International Science and Engineering, 4201 Wilson Blvd., Arlington, VA. Telephone: 703-292-7569. Email: rwebber@nsf.gov.

Purpose of Meeting: To provide advice and recommendations concerning support for research, education and related activities involving the U.S. science and engineering community working in a global context as well as strategic efforts to promote a more effective NSF role in international science and engineering.

Agenda: Overview of international activities at NSF and beyond, discussion of data searching tools for international activities, and future directions for NSF's international advisory committee.

Dated: October 4, 2012.
Susanne Bolton,
Committee Management Officer.

[FR Doc. 2012-24887 Filed 10-9-12; 8:45 am]

BILLING CODE 7555-01-P